DEPARTMENT OF HEALTH AND HUMAN SERVICES

National Institutes of Health

National Institute on Alcohol Abuse and Alcoholism; Amended Notice of Meeting

Notice is hereby given of a change in the meeting of the National Advisory Council on Alcohol Abuse and Alcoholism, May 7, 2024, 10:00 a.m. to May 8, 2024, 3:30 p.m., National Institutes of Health, National Institute on Alcohol Abuse and Alcoholism, 6700B Rockledge Drive, Conference Rooms A, B, & C, Bethesda, MD 20817 which was published in the Federal Register on April 9, 2024, FR Doc. 2024-07500, 89 FR 24846.

This notice is being amended to replace the Contact Person from Ranga V. Srinivas, Ph.D. to Philippe Marmillot, Ph.D. Director, Office of Extramural Activities, Office of Extramural Activities, National Institute on Alcohol Abuse and Alcoholism, National Institutes of Health, 6700B Rockledge Drive, Room 2118, Bethesda, MD 20892, (301) 443-2861, marmillotp@mail.nih.gov. Additionally, the meeting end time on May 8, 2024, has changed from 3:30 p.m. to 3:45 p.m. The meeting on May 7, 2024, is partially closed to the public in accordance with provisions set forth in sections 552b(c)(4) and 552b(c)(6), title 5 U.S.C., as amended, and the meeting on May 8, 2024, is open to the public.

Dated: April 30, 2024.
Melanie J. Pantoja,
Program Analyst, Office of Federal Advisory Committee Policy.

[FR Doc. 2024-09727 Filed 5-3-24; 8:45 am]

BILLING CODE 4140-01-P